DEPARTMENT OF HEALTH AND HUMAN SERVICES

Centers for Disease Control and Prevention

[60Day-26-0019; Docket No. CDC-2026-0101]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other federal agencies the opportunity to comment on a proposed information collection, as required by the Paperwork Reduction Act of 1995. This notice invites comment on a proposed information collection project titled, Evaluation of the Supporting Young Breast Cancer Survivors, Metastatic Breast Cancer Patients, and their Families Program. CDC is requesting to collect information about this program using a web-based survey and in-depth interviews to assess whether a specific cooperative agreement has been implemented as intended and to understand recipients' achievements of the program goals and outcomes.

DATES: CDC must receive written comments on or before March 30, 2026.

ADDRESSES: You may submit comments, identified by Docket No. CDC-2026-0101 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Evaluation of the Supporting Young Breast Cancer Survivors, Metastatic Breast Cancer Patients, and their Families Program—New—National Center for Chronic Disease Prevention and Health Promotion (NCCDPHP), Centers for Disease Control and Prevention (CDC).

Background and Brief Description

The Supporting Young Breast Cancer Survivors, Metastatic Breast Cancer Patients, and their Families program is part of a nationwide initiative of the Centers for Disease Control and Prevention (CDC). In response to the 2010 Education and Awareness Requires Learning Young (EARLY) Act, CDC established the Young Breast Cancer Survivors (YBCS) program, which aims to increase the health and quality of life for women under 45 diagnosed with breast cancer. The YBCS program addresses the unique challenges young women diagnosed with breast cancer encounter such as late detection, aggressive treatment options, severe side effects from treatments, and reproductive health needs such as counseling about premature menopause or fertility changes, which can complicate their care. Recognizing the severity of late-stage cancer, the YBCS program expanded to include young metastatic breast cancer (MBC) patients as they often face significantly aggressive and costly treatments due to harder-to-treat subtypes. CDC awards cooperative agreements to organizations that demonstrate the capacity to implement proven and innovative strategies to support YBCS, MBC patients, and their families. Those organizations work to: (1) foster meaningful partnerships; (2) educate, inform, and support young breast cancer survivors, metastatic breast cancer patients, and their families; and (3) educate health care providers, community health workers, and patient navigators.

CDC proposes to evaluate the fourth YBCS program cycle (DP24-0061) to examine the funded organizations that provide structured support services, resources, or education to young breast cancer survivors, metastatic breast cancer patients, their families, health care providers, community health workers, and patient navigators. The evaluation will include two primary data collection methods: (1) in-depth interviews; and (2) a web-based survey with each of the 11 funded organizations. Data collection will be facilitated annually with key programmatic staff from the funded organizations to better understand implementation efforts, challenges faced, and outcomes achieved.

To facilitate recruitment and scheduling for the evaluation, four forms of information collection will be implemented. This includes a nomination form and three scheduling forms tailored to the interview respondent's role in the program (one per role: Program Leadership, Program Implementer, and Evaluator). The nomination form will assist recipients with identifying primary and alternate respondents for the interviews and web-survey. The scheduling forms will help invited participants to quickly identify suitable times for interviews. The gather insights from respondents, four additional forms of information will be administered. This includes a web-based survey and three interview guides (one per role: Program Leadership, Program Implementer, Evaluator). The web-based survey will gather information regarding implementation efforts, promising practices, and outcomes of the YBCS program (DP24-0061). The virtual in-depth interviews will be used to provide additional context for how YBCS program recipients (DP24-0061) implement and assess their respective strategies; the factors that facilitate or impede the implementation of specific activities, interventions, and strategies; and the extent to which recipients were able to achieve planned outcomes.

The evaluation may yield information from programs related to support services, resources, and patient-provider interactions. CDC will be able to use the findings from the evaluation to enhance existing efforts to provide educational resources and support services to YBCS, MBC patients, their families, and heath care workers and to inform future funded YBCS programs. Findings will be summarized in a topline report by methodology as well as a comprehensive report.

CDC is requesting new approval. OMB approval is requested for three years. The total estimated annual burden is 79 hours. There are no costs to respondents other than their time.

Estimated Annualized Burden Hours
Type of respondents | Form name | Number of respondents | Number of responses per respondent | Average burden per response (in hrs.) | Total burden (in hours)
Program Leadership | Nomination Form | 15 | 1 | 30/60 | 8
Program Leadership | Interview Scheduling Form | 4 | 1 | 5/60 | 1
Program Implementer | Interview Scheduling Form | 7 | 1 | 5/60 | 1
Evaluator | Interview Scheduling Form | 4 | 1 | 5/60 | 1
Program Leadership | Program Leadership Interview Guide | 4 | 1 | 1.5 | 6
Program Implementer | Program Implementer Interview Guide | 7 | 1 | 1.5 | 11
Evaluator | Evaluator Interview Guide | 4 | 1 | 1.5 | 6
Program Leadership | Web-based Survey | 15 | 1 | 3 | 45
Total |  | 60 |  |  | 79

Jeffrey M. Zirger,
Lead, Information Collection Review Office, Office of Public Health Ethics and Regulations, Office of Science, Centers for Disease Control and Prevention.

[FR Doc. 2026-01618 Filed 1-26-26; 8:45 am]

BILLING CODE 4163-18-P